DEPARTMENT OF AGRICULTURE

Forest Service

Boundary Establishment for the Au Sable, Bear Creek, Manistee, and the Pine Wild and Scenic Rivers, Huron-Manistee National Forests; Alcona, Oscoda, Manistee, Lake, and Wexford Counties, MI

AGENCY: Forest Service, USDA.

ACTION: Notice of availability.

SUMMARY: In accordance with Section 3(b) of the Wild and Scenic Rivers Act, the USDA Forest Service, Washington Office, is transmitting the final boundary of the Au Sable, Bear Creek, Manistee, and the Pine Wild and Scenic Rivers to Congress.

FOR FURTHER INFORMATION CONTACT: Information may be obtained by contacting Kristen Thrall, Recreation Program Manager, Huron-Manistee National Forests, 1755 South Mitchell, Cadillac, MI 49601, (231) 775-5023, ext. 8756.

SUPPLEMENTARY INFORMATION: The Au Sable, Bear Creek, Manistee, and the Pine Wild and Scenic Rivers boundaries are available for review at the following offices: USDA Forest Service, Office of the Chief, 1400 Independence Avenue SW., Washington DC 20024; USDA Forest Service, Easter Region, Suite 400, 626 East Wisconsin Avenue, Milwaukee, WI 533202 and; Huron-Manistee National Forests, 1755 South Mitchell, Cadillac, MI 49601. Detailed legal descriptions are available upon request.

The Michigan Scenic Rivers Act of 1992 (Pub. L. 102-249-March 3, 1992) designated Bear Creek, Manistee River, and Pine River, Michigan, as National Wild and Scenic Rivers, to be administered by the Secretary of Agriculture. The 1984 Amendment to the Wild and Scenic Rivers Act (Pub. L. 98-444-October 4, 1984) designated the Au Sable River, Michigan, as a National Wild and Scenic River, to be administered by the Secretary of Agriculture. As specified by law, the boundaries will not be effective until ninety days after Congress receives the transmittal.

Dated: September 18, 2012.
Barry Paulson,
Forest Supervisor.

[FR Doc. 2012-23559 Filed 9-24-12; 8:45 am]

BILLING CODE 3410-11-P